FEDERAL TRADE COMMISSION

Granting of Request for Early Termination of the Waiting Period Under the Premerger Notification Rules

Section 7A of the Clayton Act, 15 U.S.C. 18a, as added by title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General of the Antitrust Division of the Department of Justice. Neither agency intends to take any action with respect to these proposed acquisitions during the applicable waiting period.

Transactions Granted Early Termination, 04/24/2000-05/05/2000
Transaction No. | Acquiring person | Acquired person | Acquired entities
Transactions Granted Early Termination—04/24/2000
20002234 | Fleet Boston Corporation | Choice One Communications, Inc | Choice One Communications, Inc.
20002514 | United Microelectronics Corporation | PixTech, Inc | PixTech, Inc.
20002726 | Leggett & Platt, Incorporated | TransPro, Incorporated | Crown North America Division. Crown-VMS Canada Ltd.
20002736 | Warner W. Henry | The Gibson-Homans Company | The Gibson-Homans Company.
20002741 | Dollar Tree Stores, Inc | Dollar Express, Inc | Dollar Express, Inc.
20002742 | Stora Enso Oyj | Consolidated Papers, Inc | Consolidated Papers, Inc.
20002744 | Jack in the Box, Inc | Harshad D. Dharod | DFG Restaurants, Inc.
|  |  | Harshad & Nasir Corp.
|  |  | Sun Gir, Inc.
20002751 | Urban Brands, Inc | TSG Capital Fund III, L.P | Urban Children's Stores, Inc.
20002752 | TSG Capital Fund III, L.P | Urban Brands, Inc | Urban Brands, Inc.
20002789 | Marathon Fund Limited Partnership IV | Wayne T. Hamilton Trust u/a/d 2/27/85 | Manchester Stamping Corporation.
20002828 | William L. Walker | Floyd Roger Hardesty | BizJet International Sales and Support, Inc.
Transactions Granted Early Termination—04/25/2000
20002758 | Allegheny Technologies Incorporated | Baker Hughes Incorporated | Hughes Metallurgical Products Division.
20002760 | GTE Corporation | GTE Corporation | Illinois RSA 1 Limited Partnership.
20002791 | GTCR Fund VII, L.P | First Tennessee National Corporation | First Horizon Home Loan Corporation.
20002807 | Anthony Gartland | Modern Metal Products Co | Modern Metal Products Co.
Transactions Granted Early Termination—04/26/2000
20002548 | InterParking Incorporated | Security Capital U.S. Realty | Urban Growth Property Trust.
20002549 | Security Capital U.S. Realty | InterParking Incorporated | InterParking Incorporated.
20002564 | VeriSign, Inc | Network Solutions, Inc | Network Solutions, Inc.
20002618 | Orion Power Holdings, Inc | Constellation Energy Group, Inc | COSI Astoria, Inc.
|  |  | COSI Carr Street, Inc.
|  |  | COSI Coldwater, Inc.
|  |  | COSI Great Lakes, Inc.
20002619 | Constellation Energy Group, Inc | Orion Power Holdings, Inc | Orion Power Holdings, Inc.
20002681 | Premier, Inc | medibuy.com, Inc | medibuy.com, Inc.
20002684 | GS Capital partners II Offshore, L.P | Orion Power Holdings, Inc | Orion Power Holdings, Inc.
20002685 | GS Capital Partners II, L.P | Orion Power Holdings, Inc | Orion Power Holdings, Inc.
20002686 | GS Capital Partners III, L.P | Orion Power Holdings, Inc | Orion Power Holdings, Inc.
20002730 | PSINet, Inc | Metamor Worldwide, Inc | Metamor Worldwide, Inc.
20002743 | George W. Mead | Stora Enso Oyj | Stora Enso Oyj.
20002761 | Siemens AG | Siemens AG | White Oak Semiconductor Limited Partnership.
20002776 | The Estee Lauder Companies Inc | Gloss.com, Inc | Gloss.com, Inc.
20002778 | i2 Technologies, Inc | Aspect Development, Inc | Aspect Development, Inc.
20002798 | VIAG AG | Sidney Tracy | Traco Labs, Incorporated.
20002872 | Thoma Cressey Equity Partners Fund VI, L.P | SCIENTECH, Inc | SCIENTECH, Inc.
Transactions Granted Early Termination—04/27/2000
20001061 | BASF Aktiengesellschaft | AMCOL International Corporation (“AMCOL”) | AMCOL.
|  |  | Chemdal Asia Ltd.
|  |  | Chemdal Corporation.
|  |  | Chemdal Limited.
20002762 | Sprout Capital VIII, L.P | GroceryWorks.com, Inc | GroceryWorks.com, Inc.
Transactions Granted Early Termination—04/28/2000
19994662 | Sumner M. Redstone | CBS Corporation | CBS Corporation.
20002622 | The Southern Company | Participating Producers' Trust | Pan Alberta Gas Ltd.
20002642 | Cendant Corporation | Apollo Investment Fund III, L.P | WMC Finance Co., NRT Incorporated.
20002700 | LifePoint Hospitals, Inc | Columbia/HCA Healthcare Corporation | Putnam Hospital, Inc.
20002712 | Ralcorp Holdings, Inc | Russell S. McNeil | James P. Linette, Inc.
20002753 | Joseph Sitt | Urban Brands, Inc | Urban Brands, Inc.
20002765 | Plexus Corp | Eloy S. Vallina-Languera | Elamex, S.A. de C.V.
|  |  | Electronic las Torres, S.A. de C.V.
|  |  | Serviclos Administrativos.
20002771 | Allied Waste Industries, Inc | Waste Management, Inc | Cocopah Landfill, Inc.
|  |  | Copper Mountain Landfill, Inc.
|  |  | Peerless Landfill Company.
|  |  | USA Waste of Kentucky, LLC.
|  |  | Waste Management of Kentucky, LLC.
|  |  | Waste Management of South Carolina, Inc.
20002792 | Siebel Systems, Inc | OpenSite Technologies, Inc | OpenSite Technologies, Inc.
20002808 | Flint Inc Corporation | Mr. Carlos Peralta | Alper Ink Group, LLC.
20002826 | Carlton Communications Plc | Fred B. Tarter | Cinema Bilboard Network, LLC. Screenvision Cinema Network, LLC.
20002827 | Carlton Communications Plc | Terry Laughren | Screenvision Cinema Network, LLC..
20002830 | The Chase Manhattan Corporation | Christena Karen H. Durham Trust | Huntsman Packaging Corporation.
20002837 | North Castle Partners, II, L.P | M.H. Zeigler & Sons, Inc | M.H. Zeigler & Sons, Inc.
20002861 | Ernest L. Samuel | World Class Processing, Inc | World Class Processing, Inc.
Transactions Granted Early Termination—05-01-2000
20002750 | Bill Gross' Idealab! | Cooking.com, Inc | Cooking.com, Inc.
20002757 | DLJ Merchant Banking Partners II, L.P | Carl F. Booth and Katharine S. Booth | Carl F. Booth & Co., Inc.
20002770 | Tosco Corporation | N.V. Koninklijke Nederlandsche Petroleum Maatschappij | Equilon Enterprises LLC. Shell Oil Company.
20002784 | Citigroup, Inc | ITOCHU Corporation | Copelco Capital, Inc.
20002824 | JT. Walker Industries, Inc | General Aluminum Corporation | General Aluminum Corporation.
20002871 | Irvine Laidlaw | Neil Rackham | Huthwaite, Inc.
20002877 | Global Private Equity III Limited Partnership | Veeco Instruments, Inc | Veeco Instruments, Inc.
Transactions Granted Early Termination—05-02-2000
20002772 | Quilvest S.A | Pameco Corporation | Pameco Corporation.
20002773 | Giant Eagle, Inc | Buckeye Village Market, Inc | Buckeye Village Market, Inc.
20002775 | Ronald M. Cameron | P. Coleman Townsend, Jr | Central Grain, Inc.
|  |  | Townsend Farms, Inc.
|  |  | Townsends, Inc.
20002777 | Fairchild Semiconductor International, Inc | Recovery Equity Investors, L.P | QT Optoelectronics, Inc.
20002779 | Dr. Romesh Wadhwani | i2 Technolgies, Inc | i2 Technolgies, Inc.
20002782 | Electronic Data Systems Corporation | Software Technologies Corporation | Software Technologies Corporation.
20002788 | Sanmina Corporation | InterWorks Computer Products | InterWorks Computer Products.
20002790 | Quantum Industrial Holdings Ltd | Talk.com Inc | Talk.com Inc.
20002813 | Aggregate Industries plc | James A. Klett and Andrea Klett, Husband and Wife | Klett Construction Company.
20002948 | Pfingsten Executive Fund II, L.P | William W. Winspear | The UltraCraft Company.
20002949 | Eni SpA | Britsh-Borneo Oil & Gas plc | British-Borneo Oil & Gas plc.
Transactions Granted Early Termination—05/03/2000
20002804 | CBS Corporation | MarketWatch.com, Inc | MarketWatch.com, Inc.
20002809 | Johnson & Johnson | Mitsubishi Chemical Corporation | Mitsubishi-TokyoPharmaceuticals, Inc.
20002822 | FCP Investors V, L.P | Spectrum Acquisitions, Inc | Spectrum Acquisitions, Inc.
Transactions Granted Early Termination—05/04/2000
20002688 | Clear Channel Communications, Inc | SFX Entertainment, Inc | SFX Entertainment, Inc.
20002737 | General Electric Company | John Ellison, Jr | Ellison Windows and Doors Division.
|  |  | VES, Inc., d/b/a Ellison Extrusion Systems.
20002738 | John Ellison, Jr | General Electric Company | D and W Holdings, Inc.
20002739 | Vodafone AirTouch Plc | Central Iowa Cellular, Inc | Central Iowa Cellular, Inc.
20002780 | Spectrum Equity Associates III, L.P | NT Corporation | NT Corporation.
20002797 | General Atlantic Partners 52, L.P | Prime Response, Inc | Prime Response, Inc.
20002823 | TPG Partners III, L.P | Yazam.com Inc | Yazam.com Inc.
20002829 | Internet Capital Group, Inc | International Business Machines Corporation | International Business Machines Corporation.
20002831 | International Business Machines Corporation | Internet Capital Group, Inc | ICG Patent, Inc.
20002836 | Technology Crossover Ventures II, L.P | Inventa Corporation | Inventa Corporation.
20002838 | TCV II(Q), L.P | Inventa Corporation | Inventa Corporation.
20002840 | Bradford Equities Fund, L.P | Manuel Teixeira | Teixeira Brothers Bakery and Restaurant, Inc.
20002845 | Summit Ventures V, L.P | John and Susan Ocampo | Stanford Microdevices, Inc.
20002848 | Nelvana Limited | Klutz, Inc | Klutz, Inc.
20002849 | Lindberg Corporation | Thermo Electron Corporation | Thermo Terra Tech, Inc.
20002852 | Sumner M. Redstone | MedicaLogic, Inc | MedicalLogic, Inc.
20002853 | Deutsche Bank AG | Computer Outsourcing Services, Inc | Computer Outsourcing Services, Inc.
20002854 | Sandler Capital Partners IV, L.P | Computer Outsourcing Services, Inc | Computer Outsourcing Services, Inc.
20002859 | Carl C. Icahn | Seagate Technology, Inc | Seagate Technology, Inc.
20002860 | Carl C. Icahn | J.C. Penney Company, Inc | J.C. Penney Company, Inc.
20002863 | Michael W. Lynch | Thyssen-Bornemisza Continuity Trust | Extruded Metals, Inc.
20002873 | First Security Bancorp | Crews & Associates, Inc | Crews & Associates, Inc.
20002874 | Paul M. Montrone | Janice R. Smith, Executrix of the Estate of Johnny F. Smith | Fini Enterprises, Inc.
20002883 | Gerald W. Schwartz | Donald C. Hayden | E. and L. Transport Company L.L.C.
|  |  | Florida Leasco Company L.L.C.
|  |  | Transportation Releasing L.L.C.
20002897 | Reed International P.L.C | Susan P. Hall | Lawyers Weekly, Inc.
20002898 | Elsevier N.V | Susan P. Hall | Lawyers Weekly, Inc.
20002919 | Tootsie Roll Industries, Inc | Klaus J. Jacobs | Andes Candies, Inc.
20002921 | Madison Dearborn Capital Partners III, L.P | X.com Corporation | X.com Corporation.
20002922 | The Reynolds and Reynolds Company | J. Eustace Wolfington | HAC Group, LLC.
20002923 | The Reynolds and Reynolds Company | Eustace Mita | HAC Group, LLC.
20002924 | Eustace Mita | The Reynolds and Reynolds Company | The Reynolds and Reynolds Company.
20002930 | Deutsche Bank AG | Pedestal Inc | Pedestal Inc.
Transaction Granted Early Termination—05/05/2000
20002857 | Peter A. & Joanne Leedom-Ackerman | Equity Marketing, Inc | Equity Marketing, Inc.
20002858 | Q-Media Services Corporation | Estate of Pierre Peladeau | Print Northwest L.P.
20002862 | IT Group, Inc | W&H Pacific, Inc | W&H Pacific, Inc.
20002864 | Welsh, Carson, Anderson & Stowe VIII, L.P | Politic Acquisition Corp | Politic Acquisition Corp.
20002865 | WCAS Capital Partners III, L.P | Politic Acquisition Corp | Politic Acquisition Corp.
20002866 | Science Applications International Corporation | VeriSign, Inc | VeriSign, Inc.
20002892 | National Bank of Egypt | Arab American Bank | Arab American Bank
20002895 | Berkshire Fund V, Limited Partnership | USA Jet Airlines, Inc | USA Jet Airlines, Inc.
20002902 | Einhorn Verwaltungsgesellschaft | Gerald L. Lennard | PGP Industries, Inc.
20002908 | International Business Machines Corporation | Scott A. Blum Separate Property Trust U/D/T 8/2/95 | eDevelopments.com Inc.
20002916 | Prime 66 Partners, L.P | The Warnaco Group, Inc | The Warnaco Group, Inc.
20002917 | Centennial Fund IV, L.P | 24/7 Media, Inc | 24/7 Media, Inc.
20002918 | Great Plains Software, Inc | Solomon Software, Inc | Solomon Software, Inc.
20002925 | Activated Communications Limited Partnership | Mr. Arthur Liu | Way Broadcasting, Inc.
20002926 | Mr. Arthur Liu | Activated Communications Limited Partnership | Activated Communications Limited Partnership.
20002929 | Agfa-Gevaert N.V | Emerson Electric, Co | Krautkramer-Branson.
20002935 | HNC Software, Inc | Simon B. Ruddick | High Touch Technologies.
20002939 | eGain Communications Corporation | Inference Corporation | Inference Corporation.
20002944 | GS Capital Partners III, L.P | SiPix Group Limited | SiPix Group Limited.
20002955 | Dial Corporation (The) | Procter & Gamble Company, (The) | Procter & Gamble Company, (The).

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 00-12127 Filed 5-12-00; 8:45 am]

BILLING CODE 6750-01-M